DEPARTMENT OF ENERGY

Federal Energy Regulatory Commission

Combined Notice of Filings

Take notice that the Commission has received the following Natural Gas Pipeline Rate and Refund Report filings:

Filings Instituting Proceedings

Docket Numbers: RP15-912-000.

Applicants: Gulf South Pipeline Company, LP.

Description: § 4(d) rate filing per 154.204: Amendment to Neg Rate Agmt (Sequent 34693-28) to be effective 4/28/2015.

Filed Date: 4/28/15.

Accession Number: 20150428-5232.

Comments Due: 5 p.m. ET 5/11/15.

Docket Numbers: RP15-913-000.

Applicants: East Cheyenne Gas Storage, LLC.

Description: Compliance filing per 154.203: ECGS 2015 Operational Purchase and Sales Report filing.

Filed Date: 4/28/15.

Accession Number: 20150428-5294.

Comments Due: 5 p.m. ET 5/11/15.

Docket Numbers: RP15-914-000.

Applicants: Trailblazer Pipeline Company LLC.

Description: § 4(d) rate filing per 154.204: Neg Rate 2015-04-28 Koch, Green Plains to be effective 5/1/2015.

Filed Date: 4/28/15.

Accession Number: 20150428-5360.

Comments Due: 5 p.m. ET 5/11/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2015.
Nathaniel J. Davis, Sr.,
Deputy Secretary.

[FR Doc. 2015-11324 Filed 5-8-15; 8:45 am]

BILLING CODE 6717-01-P